DEPARTMENT OF THE INTERIOR

Bureau of Land Management

[MT-924-1430-ET; MTM 95626]

Public Land Order No. 7676; Revocation of the Withdrawal Established by Executive Order Dated July 19, 1912; Montana

AGENCY: Bureau of Land Management, Interior.

ACTION: Public land order.

SUMMARY: This order revokes a withdrawal of approximately 42,477 acres of public and National Forest System lands for coal classification purposes. The lands are no longer needed for the purpose for which they were withdrawn. This order will open the public lands to surface entry and nonmetalliferous mining subject to other segregations of record. The lands located within the National Forest will be opened to such forms of disposition as may by law be authorized on National Forest System lands and to nonmetalliferous mining subject to other segregations of record.

DATES: Effective Date: July 27, 2007.

FOR FURTHER INFORMATION CONTACT: Sandra Ward, BLM Montana State Office, 5001 Southgate Drive, Billings, Montana 59101-3131, 406-896-5052.

SUPPLEMENTARY INFORMATION: The lands have been and will continue to be open to mineral leasing and metalliferous mining. Copies of the Executive Order showing the complete legal description are available from the BLM Montana State Office at the above address.

Order

By virtue of the authority vested in the Secretary of the Interior by Section 204 of the Federal Land Policy and Management Act of 1976, 43 U.S.C. 1714 (2000), it is ordered as follows:

1. The withdrawal established by the Executive Order dated July 19, 1912, which withdrew public and National Forest System lands for Coal Reserve Montana No. 9, is hereby revoked in its entirety. The area comprises approximately 42,477 acres in Missoula County.

2. At 9 a.m. on July 27, 2007, subject to valid existing rights, the provisions of existing withdrawals, other segregations of record, and the requirements of applicable law, the public lands referenced in Paragraph 1 shall be opened to the operation of the public land laws generally and the National Forest System lands shall be opened to such forms of disposition as may by law be made of National Forest System lands. All valid applications received at or prior to 9 a.m. on July 27, 2007, shall be considered as simultaneously filed at that time. Those received thereafter shall be considered in the order of filing.

3. At 9 a.m. on July 27, 2007, the lands referenced in Paragraph 1 shall be opened to location and entry under the United States mining laws for nonmetalliferous minerals, subject to valid existing rights, the provisions of existing withdrawals, other segregations of record, and the requirements of applicable law. Appropriation of the lands under the general mining laws for nonmetalliferous mining prior to the date and time of restoration is unauthorized. Any such attempted appropriation, including attempted adverse possession under 30 U.S.C. 38 (2000), shall vest no rights against the United States. Acts required to establish a location and to initiate a right of possession are governed by State law where not in conflict with Federal law. The Bureau of Land Management will not intervene in disputes between rival locators over possessory rights since Congress has provided for such determinations in local courts.

Dated: April 20, 2007.
C. Stephen Allred,
Assistant Secretary—Land and Minerals Management.

[FR Doc. E7-12376 Filed 6-26-07; 8:45 am]

BILLING CODE 4310-$$-P